DEPARTMENT OF TRANSPORTATION

Federal Aviation Administration

Notice of Intent of Waiver With Respect to Land;

Wabash Municipal Airport, Wabash, Indiana

AGENCY: Federal Aviation Administration (FAA), DOT.

ACTION: Notice.

SUMMARY: The FAA is considering a proposal to change 0.382 acres of airport land from aeronautical use to non-aeronautical use and to authorize the sale of airport property located at Wabash Municipal Airport, Wabash, Indiana. The aforementioned land is not needed for aeronautical use. The subject property is located south of County Road 400 S and west of the Wabash Municipal Airport's terminal building. The property is part of a larger parcel that was purchased for aeronautical development and used as vacant land compatible with the airport's aeronautical purpose.

DATES: Comments must be received on or before October 23, 2025.

ADDRESSES: All requisite and supporting documentation will be made available for review by appointment at the FAA Chicago Airports District Office, Jeremy Riley, Program Manager, 2300 E. Devon Ave., Des Plaines, IL 60018 Telephone: (847) 294-7214/Fax: (847) 294-7046 and City of Wabash, 202 S. Wabash St., Wabash, IN 46992.

Written comments on the Sponsor's request may be submitted using any of the following methods:

• Federal eRulemaking Portal: Go to http://www.regulations.gov, and follow the instructions for sending your comments electronically.

• Mail: Jeremy Riley, Program Manager, Federal Aviation Administration, Chicago Airports District Office, 2300 E. Devon Ave., Des Plaines, IL 60018.

• Hand Delivery: Deliver to mail address above between 8 a.m. and 5 p.m. Monday through Friday, excluding Federal holidays.

• FAX: (847) 294-7046.

FOR FURTHER INFORMATION CONTACT: Jeremy Riley, Program Manager, Federal Aviation Administration, Chicago Airports District Office, E. Devon Ave., Des Plaines, IL 60018. Telephone Number: (847) 294-7214/FAX Number: (847) 294-7046.

SUPPLEMENTARY INFORMATION: In accordance with section 47107(h) of Title 49, United States Code, this notice is required to be published in the Federal Register 30 days before modifying the land-use assurance that requires the property to be used for an aeronautical purpose.

The subject property is currently maintained as vacant but compatible airport property. The property was originally acquired under Airport Development Aid Program (ADAP) grant 5-18-0084-02 in 1981. The subject property is proposed to be sold and exchanged for a parcel adjacent to the airport that will allow for a project that will enhance safety at the Wabash Municipal Airport. Fair market value will be realized as the parcels to be exchanged are similarly situated and are the same exact size.

The disposition of proceeds from the sale of this airport property will be in accordance with section 47107(c)(2)(b) of Title 49, United States Code.

This notice announces that the FAA is considering the release of the subject airport property at the Wabash Municipal Airport, Wabash, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Part of the West Half of the Northeast Quarter of Section 25, Township 27 North, Range 6 East, Wabash County, Indiana, being that 0.382 acre parcel (Tract #1) surveyed by John H. Stephens, Indiana Professional Surveyor #LS80040428 and shown on the plat of an original boundary survey certified on February 13, 2024 and revised on March 6, 2025 as Job number 24021, being more particularly described as follows:

COMMENCING at the southwest corner of said Northeast Quarter; thence North 00 degrees 57 minutes 40 seconds West, grid bearing (North American Datum 1983, Indiana East Zone), along the west line of said Northeast Quarter, 1390.03 feet to an iron stake with JHS RLS identification and the POINT OF BEGINNING, being located South 00 degrees 57 minutes 40 seconds East, 1273.38 feet from a section corner monument marking the northwest corner of said Northeast Quarter; thence North 89 degrees 23 minutes 17 seconds East, 332.82 feet to an iron stake with JHS RLS #80040428 identification; thence South 00 degrees 57 minutes 33 seconds East, 50.00 feet to an iron stake with JHS RLS #80040428 identification; thence South 89 degrees 23 minutes 17 seconds West, 332.82 feet to an iron stake with JHS RLS #80040428 identification; thence North 00 degrees 57 minutes 40 seconds West, along the west line of said Northeast Quarter, 50.00 feet to the POINT OF BEGINNING.

Containing 0.382 of an acre, more or less.

Subject to easements, rights of way, covenants and restrictions of records.

Issued in Des Plaines, IL on September 18, 2025.
Gary David Wilson,
Acting Manager, Chicago Airports District Office, FAA, Great Lakes Region.

[FR Doc. 2025-18354 Filed 9-22-25; 8:45 am]

BILLING CODE 4910-13-P